DEPARTMENT OF STATE

[Public Notice 8110]

60-Day Notice of Proposed Information Collection: Statement of Consent: Issuance of a U.S. Passport to a Minor Under Age 16

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to February 11, 2013.

ADDRESSES: You may submit comments by any of the following methods:

• Web: Persons with access to the Internet may use the Federal Docket Management System (FDMS) to comment on this notice by going to www.Regulations.gov. You can search for the document by entering “Public Notice ####” in the Search bar. If necessary, use the Narrow by Agency filter option on the Results page.

• Email: PPTFormsOfficer@state.gov.

• Mail: PPT Forms Officer, U.S. Department of State, 2100 Pennsylvania Avenue NW., Room 3030, Washington, DC 20037.

• Fax: (202) 663-2410.

• Hand Delivery or Courier: PPT Forms Officer, U.S. Department of State, 2100 Pennsylvania Avenue NW., Room 3030, Washington, DC 20037.

You must include the DS form number (if applicable), information collection title, and the OMB control number in any correspondence.

FOR FURTHER INFORMATION CONTACT: Direct requests for additional information regarding the collection listed in this notice, including requests for copies of the proposed collection instrument and supporting documents, to PPT Forms Officer, U.S. Department of State, 2100 Pennsylvania Avenue NW., Room 3030, Washington, DC 20037 who may be reached on (202) 663-2457 or at PPTFormsOfficer@state.gov.

SUPPLEMENTARY INFORMATION: • Title of Information Collection: Statement of Consent: Issuance of a U.S. Passport to a Minor under Age 16.

• OMB Control Number: 1405-0129.

• Type of Request: Revision of a Currently Approved Collection.

• Originating Office: Bureau of Consular Affairs, Passport Services, Office of Program Management and Operational Support, Program Coordination Division (CA/PPT/PMO/PC).

• Form Number: DS-3053.

• Respondents: Individuals or Households.

• Estimated Number of Respondents: 1,260,000 respondents per year.

• Estimated Number of Responses: 1,260,000 responses per year.

• Average Time Per Response: 5 minutes.

• Total Estimated Burden Time: 105,000 hours per year.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The information collected on the DS-3053, “Statement of Consent: Issuance of a U.S. Passport to a Minor under Age 16”, is used in conjunction with the DS-11, “Application for a U.S. Passport”. When a minor under the age 16 applies for a passport and one of the minor's parents or legal guardians is unavailable at the time the passport application is executed, a completed and notarized DS-3053 can be used as the statement of consent. If the required statement is not submitted, the minor cannot receive a U.S. passport. The required statement may be submitted in other formats provided they meet statutory and regulatory requirements.

The legal authority permitting this information collection assists the Department of State to administer the regulations in 22 CFR 51.27 requiring that both parents and/or any guardian consent to the issuance of a passport to a minor under age 16, except where one parent has sole custody. This regulation was mandated by Section 236 of the Admiral James W. Nance and Meg Donovan Foreign Relations authorization Act, Fiscal Year 2000 and 2001 (enacted by Public Law 106-113, Div. B, Section 1000 (a)(7)), and helps to prevent international child abduction.

Methodology

Passport Services collects information from U.S. citizens and non-citizen nationals when they complete and submit the DS-3053, “Statement of Consent: Issuance of a U.S. Passport to a Minor under Age 16”. Passport applicants can either download the DS-3053 from the Internet or obtain the form from an Acceptance Facility/Passport Agency. The form must be completed, signed, and submitted along with the applicant's DS-11, “Application for a U.S. Passport”.

Dated: November 28, 2012.
Brenda S. Sprague,
Deputy Assistant Secretary for Passport Services, Bureau of Consular Affairs, Department of State.

[FR Doc. 2012-30022 Filed 12-11-12; 8:45 am]

BILLING CODE 4710-06-P